DEPARTMENT OF HEALTH AND HUMAN SERVICES

Centers for Disease Control and Prevention

Advisory Board on Radiation and Worker Health (ABRWH or Advisory Board), National Institute for Occupational Safety and Health (NIOSH)

Notice of Cancellation: This notice was published in the Federal Register on March 19, 2009, Volume 74, Number 5, pages 813-814. The meeting previously scheduled to convene on March 31, 2009 has been cancelled.

Contact Person for More Information: Theodore M. Katz, M.P.A., Executive Secretary, NIOSH, CDC, 1600 Clifton Rd., NE., Mailstop: E-20, Atlanta, GA 30333, Telephone (513) 533-6800, Toll Free 1-800-CDC-INFO, E-mail ocas@cdc.gov.

The Director, Management Analysis and Services Office, has been delegated the authority to sign Federal Register notices pertaining to announcements of meetings and other committee management activities, for both CDC and the Agency for Toxic Substances and Disease Registry.

Dated: March 26, 2009.
Andre Tyler,
Acting Director, Management Analysis and Services Office, Centers for Disease Control and Prevention.

[FR Doc. E9-7268 Filed 3-31-09; 8:45 am]

BILLING CODE 4163-18-P